DEPARTMENT OF THE INTERIOR

National Park Service

[NPS-WASO-NAGPRA-NPS0025295: PPWOCRADN0-PCU00RP14.R50000]

Notice of Inventory Completion: Wisconsin Historical Society, Madison, WI

AGENCY: National Park Service, Interior.

ACTION: Notice.

SUMMARY: The Wisconsin Historical Society has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Wisconsin Historical Society. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Wisconsin Historical Society at the address in this notice by May 21, 2018.

ADDRESSES: Jennifer Kolb, Wisconsin Historical Society, 816 State Street, Madison, WI 53706, telephone (608) 264-6434, email Jennifer.Kolb@wisconsinhistory.org.

SUPPLEMENTARY INFORMATION: Notice is here given in accordance with the Native American Graves Protection and Repatriation Act (NAGPRA), 25 U.S.C. 3003, of the completion of an inventory of human remains and associated funerary objects under the control of the Wisconsin Historical Society, Madison, WI. The human remains and associated funerary objects were removed from the Pole Barn Site, Waukesha County, WI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Wisconsin Historical Society professional staff in consultation with representatives of the Forest County Potawatomi Community, Wisconsin; Ho-Chunk Nation of Wisconsin; Lac du Flambeau Band of Lake Superior Chippewa Indians of the Lac du Flambeau Reservation of Wisconsin; Menominee Indian Tribe of Wisconsin; and Upper Sioux Community, Minnesota.

History and Description of the Remains

In 1992, human remains representing, at minimum, five individuals were removed from the Pole Barn Site (47-WK-0471) in Waukesha County, WI. The human remains were disturbed while digging a utility trench under a barn in the town of New Berlin. Diane Holiday along with other Wisconsin Historical Society Burial Sites Preservation Office staff and archeologists from University of Wisconsin-Milwaukee salvaged the remainder of the burial feature. Skeletal analysis conducted in 2014 determined that the human remains represent two adult males, one adult female, one infant, and one child. Six artifacts were discovered stored with the human remains during the 2014 skeletal analysis and were determined to be associated funerary objects because they were labeled as being associated with specific burials. No known individuals were identified. The six associated funerary objects are one antler tine, one group of worked avian bones, one group of unworked avian bones, one projectile point, one lithic flake, and one scrapper fragment.

Determinations Made by the Wisconsin Historical Society

Officials of the Wisconsin Historical Society have determined that:

• Pursuant to 25 U.S.C. 3001(9), the human remains described in this notice are Native American based on Wisconsin Historical Society records, burial location, archeological context, oral histories, and skeletal analysis.

• Pursuant to 25 U.S.C. 3001(9), the human remains described in this notice represent the physical remains of five individuals of Native American ancestry.

• Pursuant to 25 U.S.C. 3001(3)(A), the six objects described in this notice are reasonably believed to have been placed with or near individual human remains at the time of death or later as part of the death rite or ceremony.

• Pursuant to 25 U.S.C. 3001(2), a relationship of shared group identity cannot be reasonably traced between the Native American human remains associated funerary objects and any present-day Indian Tribe.

• According to final judgments of the Indian Claims Commission or the Court of Federal Claims, the land from which the Native American human remains and associated funerary objects were removed is the aboriginal land of the Citizen Potawatomi Nation, Oklahoma; Forest County Potawatomi Community, Wisconsin; Hannahville Indian Community, Michigan; Match-e-be-nash-she-wish Band of Pottawatomi Indians of Michigan; Nottawaseppi Huron Band of the Potawatomi, Michigan (previously listed as the Huron Potawatomi, Inc.); Pokagon Band of Potawatomi Indians, Michigan and Indiana; and the Prairie Band Potawatomi Nation (previously listed as the Prairie Band of Potawatomi Nation, Kansas) (hereafter referred to as “The Adjudicated Aboriginal Land Tribes”).

• Treaties, Acts of Congress, or Executive Orders, indicate that the land from which the Native American human remains and associated funerary objects were removed is the aboriginal land of the Bad River Band of the Lake Superior Tribe of Chippewa Indians of the Bad River Reservation, Wisconsin; Bay Mills Indian Community, Michigan; Chippewa Cree Indians of the Rocky Boy's Reservation, Montana (previously listed as the Chippewa-Cree Indians of the Rocky Boy's Reservation, Montana); Citizen Potawatomi Nation, Oklahoma; Forest County Potawatomi Community, Wisconsin; Grand Traverse Band of Ottawa and Chippewa Indians, Michigan; Hannahville Indian Community, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Match-e-be-nash-she-wish Band of Pottawatomi Indians of Michigan; Minnesota Chippewa Tribe, Minnesota (Six component reservations: Bois Forte Band (Nett Lake); Fond du Lac Band; Grand Portage Band; Leech Lake Band; Mille Lacs Band; White Earth Band); Nottawaseppi Huron Band of the Potawatomi, Michigan (previously listed as the Huron Potawatomi, Inc.); Ottawa Tribe of Oklahoma; Pokagon Band of Potawatomi Indians, Michigan and Indiana; Prairie Band Potawatomi Nation (previously listed as the Prairie Band of Potawatomi Nation, Kansas); Red Cliff Band of Lake Superior Chippewa Indians of Wisconsin; Red Lake Band of Chippewa Indians, Minnesota; Saginaw Chippewa Indian Tribe of Michigan; Sault Ste. Marie Tribe of Chippewa Indians, Michigan; Sokaogon Chippewa Community, Wisconsin; St. Croix Chippewa Indians of Wisconsin; and the Turtle Mountain Band of Chippewa Indians of North Dakota (hereafter referred to as “The Acknowledged Aboriginal Land Tribes”).

• Pursuant to 43 CFR 10.11(c)(1), the disposition of the human remains and associated funerary objects may be to The Adjudicated Aboriginal Land Tribes and The Acknowledged Aboriginal Land Tribes.

Additional Requestors and Disposition

Representatives of any Indian Tribe or Native Hawaiian organization not identified in this notice that wish to request transfer of control of these human remains and associated funerary objects should submit a written request with information in support of the request to Jennifer Kolb, Wisconsin Historical Society, 816 State Street, Madison, WI 53706, telephone (608) 264-6434, email Jennifer.Kolb@wisconsinhistory.org, by May 21, 2018. After that date, if no additional requestors have come forward, transfer of control of the human remains and associated funerary objects to The Aboriginal Land Tribes and The Additional Aboriginal Land Tribes may proceed.

The Wisconsin Historical Society is responsible for notifying The Aboriginal Land Tribes; The Additional Aboriginal Land Tribes; Ho-Chunk Nation of Wisconsin; Menominee Indian Tribe of Wisconsin; and Upper Sioux Community, Minnesota, that this notice has been published.

Dated: March 22, 2018.
Melanie O'Brien,
Manager, National NAGPRA Program.

[FR Doc. 2018-08182 Filed 4-18-18; 8:45 am]

BILLING CODE 4312-52-P